DEPARTMENT OF HEALTH AND HUMAN SERVICES

National Institutes of Health

National Cancer Institute; Amended Notice of Meeting

Notice is hereby given of a change in the meeting of the National Cancer Advisory Board, September 8, 2008, 8 a.m. to 5:15 p.m., National Institutes of Health, Building 31, 31 Center Drive, Bethesda, MD 20892, which was published in the Federal Register on August 13, 2008, 73 FR 47195.

This notice is amended to change the times of the open session on September 8, 2008 to 8 a.m. to 3:45 p.m. and the closed session to 3:45 p.m. to 5:15 p.m.

Dated: August 18, 2008.
Jennifer Spaeth,
Director, Office of Federal Advisory Committee Policy.

[FR Doc. E8-19586 Filed 8-22-08; 8:45 am]

BILLING CODE 4140-01-P